POSTAL REGULATORY COMMISSION

39 CFR Part 3030

[Docket No. RM2021-2; Order No. 6537]

Market Dominant Products

AGENCY: Postal Regulatory Commission.

ACTION: Order reactivating docket.

SUMMARY: The Commission established a review seeking input from the public regarding any additional regulations that may be necessary to achieve the objectives of the Postal Accountability and Enhancement Act (PAEA) over the longer-term, particularly for issues related to maximizing incentives to increase efficiency and reduce costs, maintaining high-quality service standards, and assuring financial stability (including retained earnings). This Order reactivating docket informs the public of the docket's reactivation, invites public comment, and takes other administrative steps.

DATES: Comments are due: September 15, 2023. Reply comments are due: October 16, 2023.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On January 15, 2021, the Commission established this proceeding to seek public input regarding any additional regulations that may be necessary to achieve the objectives of the Postal Accountability and Enhancement Act (PAEA) ¹ over the longer-term, particularly for issues such as “maximizing incentives to increase efficiency and reduce costs, maintaining high-quality service standards, and assuring financial stability (including retained earnings).” ² The Commission invited comments (see Order No. 5816 at 15) and subsequently extended the deadlines for filing comments (see Order No. 5862 at 3).

¹ Public Law 109-435, 201, 120 Stat. 3198, 3204 (2006).

² Advance Notice of Proposed Rulemaking Regarding Performance Incentive Mechanism, January 15, 2021, at 1 (Order No. 5816); see Order Extending Time to File Comments and Reply Comments, April 7, 2021, at 1 (Order No. 5862).

On June 24, 2021, the Postal Service filed a motion requesting that the Commission hold this proceeding in abeyance pending resolution of a consolidated appeal from a separate Commission docket then before the United States Court of Appeals for the District of Columbia Circuit.³ The Commission granted the Motion and held the instant proceeding in abeyance until further notice.⁴

³ See Motion of the United States Postal Service to Hold Proceeding in Abeyance, June 24, 2021 (Motion).

⁴ Order Granting Motion to Hold Proceeding in Abeyance, July 2, 2021, at 3 (Order No. 5928).

The appeal in question concerned Docket No. RM2017-3, a docket in which the Commission adopted final rules pursuant to 39 U.S.C. 3622(d)(3) implementing a modified ratemaking system. See, e.g., Order No. 5928 at 1. This appeal has been resolved.⁵ Consequently, the Commission will reactivate the instant proceeding.

⁵ See Nat'l Postal Policy Council v. Postal Regul. Comm'n, 17 F.4th 1184 (D.C. Cir. 2021), cert. denied, 142 S.Ct. 2868 (2022).

The Commission invites comments on the topics identified in Order No. 5816. Initial comments are due by September 15, 2023. Reply comments are due by October 16, 2023. Because the previously designated public representative is unavailable, pursuant to 39 U.S.C. 505, the Commission will designate Katalin K. Clendenin as an officer of the Commission (Public Representative) to represent the interests of the general public.

It is ordered:

1. Docket No. RM2021-2 is reactivated.

2. Interested persons may submit Initial comments no later than September 15, 2023.

3. Interested persons may submit Reply comments no later than October 16, 2023.

4. Pursuant to 39 U.S.C. 505, Katalin K. Clendenin shall serve as an officer of the Commission (Public Representative) to represent the interests of the general public in this proceeding.

5. The Secretary shall arrange for publication of this Order in the Federal Register.

By the Commission.
Erica A. Barker,
Secretary.

[FR Doc. 2023-12894 Filed 6-15-23; 8:45 am]

BILLING CODE 7710-FW-P